FEDERAL MEDIATION AND CONCILIATION SERVICE

Proposed Agency Informational Collection Activities; Comment Request

AGENCY: Federal Mediation and Conciliation Service.

ACTION: Notice of Forms SF-424, SF-270 (LM-6), LM-8, SF-269a, LM-7, LM-9 and LM-3 to be submitted for extension to the Office of Management and Budget.

SUMMARY: This notice announces that seven information collection requests contained among the Federal Mediation and Conciliation Service (FMCS), Labor Management Corporation Program have come up for renewal. FMCS will submit to the Office of Management and Budget (OMB) a request for review of these seven forms: Application for Federal Assistance (SF-424), Request for Advance or Reimbursement SF-270 (LM-6), Project Performance (LM-8), Financial Status Report SF-269a (LM-7), Grants Program Grantee Evaluation Questionnaire (agency form LM-9), and Accounting System and Financial Capability Questionnaire (LM-3). The request seeks OMB approval for a three-year extension with an expiration date of March 12, 2012, for forms SF-424, SF-270 (LM-6), (LM-8), SF-269a, (LM-7), (LM-9) and (LM-3). FMCS is soliciting comments on aspects of the collection as described below.

DATES: Comments must be submitted on or before April 22, 2009.

ADDRESSES: Submit written comments by mail to Office of Labor Management Grants Program, Federal Mediation and Conciliation Service, 2100 K Street, NW., Washington, DC 20427 or by contacting the person whose name appears under the section headed, FOR FURTHER INFORMATION CONTACT. Comments may be submitted by fax at (202) 606-3434 or electronically by sending electronic (e-mail) to Michael Bartlett, Federal Register Liaison at mbartlett@fmcs.gov or Linda Stubbs the Grants Management Specialist at lstubbs@fmcs.gov. All comments must be identified by the appropriate agency form number. No confidential business information (CBI) should be submitted through e-mail. Information submitted as a comment concerning this document may be claimed confidential by marking any part or all of the information as “CBI”. Information so marked will not be disclosed but a copy of the comment that does contain CBI must be submitted for inclusion in the public record. Information not marked confidential may be disclosed publicly by FMCS without prior notice. All written comments will be available for inspection in Room 610 at the Washington, DC address above from 8:30 a.m. to 4:30 p.m., Monday through Friday, excluding legal holidays.

FOR FURTHER INFORMATION CONTACT: Linda Stubbs, Grants Management Specialist, FMCS, 2100 K Street, NW., Washington, DC 20427. Telephone number (202) 606-8181, e-mail to lstubbs@fmcs.gov or fax at (202) 606-3434.

SUPPLEMENTARY INFORMATION: Copies of the complete agency forms are available from the Office of Labor Management Grants Program by calling, faxing, or writing Linda Stubbs at the address above. Please ask for forms by agency number.

I. Information Collection Requests

FMCS is seeking comments on the following information collection requests contained in FMCS agency forms.

Agency: Federal Mediation and Conciliation Service.

Form Number: OMB No. 3076-0006.

Expiration date: December 12, 2006.

Type of Request: Extension of a previously approved collection without change in the substance or method of collection.

Affected Entities: Potential applicants and/or grantees who received our grant application kit. Also applicants who have received a grant from FMCS.

Frequency:

a. Three of the forms, the SF-424, LM-6, and LM-9 are submitted at the applicant/grantee's discretion.

b. To conduct the quarterly submissions, LM-7and LM-8 forms are used. Less than quarterly reports would deprive FMCS of the opportunity to provide prompt technical assistance to deal with those problems identified in the report.

c. Once per application. The LM-3 is the only form to which a “similar information” requirement could apply. That form takes the requirement into consideration by accepting recent audit reports in lieu of applicant completion of items C2 through 9 and items D1 through 3.

Abstract: Except for the FMCS Forms LM-3 and LM-9, the forms under consideration herein are either required or recommended in OMB Circulars. The two exceptions are non-recurring forms, the former a questionnaire sent only to non-public sector potential grantees and the latter a questionnaire sent only to former grantees for voluntary completion and submission.

The collected information is used by FMCS to determine annual applicant suitability, to monitor quarterly grant project status, and for on-going program evaluation. If the information were not collected, there could be no accounting for the activities of the program. Actual use has been the same as intended use.

Burden: Application for Federal Assistance (SF-424) is an OMB form which we do not include in the burden. We have not added to it; however we have deleted the requirements for completion of sections C, D, and E. We received approximately 113 responses. Request for Advance or Reimbursement SF-270 (LM-6) is an OMB form with no agency additions. The number of respondents is approximately 37 and estimated time per response is 30 minutes. Project Performance (LM-8) had approximately 37 respondents and the estimated time per response is 30 minutes. Financial Status Report (SF-269a) (LM-7) is an OMB form with no agency additions. The estimated time per response is 30 minutes and there are approximately 37 respondents. FMCS Grants Program Evaluation Questionnaire (LM-9) form number of respondents is approximately 12 and the estimated time per response is 60 minutes. The Accounting System and Financial Capability Questionnaire (LM-3) has approximately 28 respondents and the estimated time per response is 60 minutes.

II. Request for Comments

The FMCS is particularly interested in comments which:

(i) Evaluate whether the proposed collection of information is necessary for the proper performance of the functions of the agency, including whether the information will have practical utility;

(ii) Evaluate the accuracy of the agency's estimates of the burden of the proposed collection of information;

(iii) Enhance the quality, utility, and clarity of the information to be collected; and

(iv) Minimize the burden of the collection of information on those who are to respond, including the use of appropriate automated electronic collection technologies or other forms of information technology, e.g. permitting electronic and fax submission of responses.

III. The Official Records

The official records are the paper electronic records maintained at the address at the beginning of this document. FMCS will transfer all electronically received comments into printed-paper form as they are received.

List of Subjects

Labor-Management Cooperation Program and Information Collection Requests.

Dated: March 17, 2009.
Michael Bartlett,
Deputy General Counsel.

[FR Doc. E9-6184 Filed 3-20-09; 8:45 am]

BILLING CODE 6732-01-P